POSTAL REGULATORY COMMISSION

[Docket Nos. MC2025-880 and K2025-881; MC2025-882 and K2025-883; MC2025-883 and K2025-884; MC2025-884 and K2025-885; MC2025-885 and K2025-886; MC2025-886 and K2025-887; MC2025-910 and K2025-911; MC2025-914 and K2025-915; MC2025-915 and K2025-916; MC2025-919 and K2025-920; MC2025-920 and K2025-921; MC2025-921 and K2025-922; MC2025-922 and K2025-923; MC2025-923 and K2025-924; MC2025-924 and K2025-925; MC2025-925 and K2025-926; MC2025-926 and K2025-927; MC2025-927 and K2025-928; MC2025-928 and K2025-929]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 27, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-880 and K2025-881; Filing Title: USPS Request to Add Priority Mail Express, Priority Mail & USPS Ground Advantage Contract 1105 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

2. Docket No(s).: MC2025-882 and K2025-883; Filing Title: USPS Request to Add Priority Mail Express, Priority Mail & USPS Ground Advantage Contract 1107 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

3. Docket No(s).: MC2025-883 and K2025-884; Filing Title: USPS Request to Add Priority Mail & USPS Ground Advantage Contract 550 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

4. Docket No(s).: MC2025-884 and K2025-885; Filing Title: USPS Request to Add Priority Mail & USPS Ground Advantage Contract 551 to the Competitive Product List and Notice of Filing Materials Under Seal; Filing Acceptance Date: December 18, 2024; Filing Authority: 39 U.S.C. 3642, 39 CFR 3035.105, and 39 CFR 3041.310; Public Representative: Elsie Lee-Robbins; Comments Due: December 27, 2024.

5. Docket No(s).: MC2025-885 and K2025-886; Filing Title: USPS Request to Add Priority Mail & USPS Ground Advantage Contract 552 to the Competitive Product List and Notice of Filing Materials Under Seal; Filing Acceptance Date: December 18, 2024; Filing Authority: 39 U.S.C. 3642, 39 CFR 3035.105, and 39 CFR 3041.310; Public Representative: Gregory Stanton; Comments Due: December 27, 2024.

6. Docket No(s).: MC2025-886 and K2025-887; Filing Title: USPS Request to Add Priority Mail & USPS Ground Advantage Contract 553 to the Competitive Product List and Notice of Filing Materials Under Seal; Filing Acceptance Date: December 18, 2024; Filing Authority: 39 U.S.C. 3642, 39 CFR 3035.105, and 39 CFR 3041.310; Public Representative: Gregory Stanton; Comments Due: December 27, 2024.

7. Docket No(s).: MC2025-910 and K2025-911; Filing Title: USPS Request to Add Priority Mail & USPS Ground Advantage Contract 556 to the Competitive Product List and Notice of Filing Materials Under Seal; Filing Acceptance Date: December 18, 2024; Filing Authority: 39 U.S.C. 3642, 39 CFR 3035.105, and 39 CFR 3041.310; Public Representative: Gregory Stanton; Comments Due: December 27, 2024.

8. Docket No(s).: MC2025-914 and K2025-915; Filing Title: USPS Request to Add Priority Mail Express, Priority Mail & USPS Ground Advantage Contract 1105 to the Competitive Product List and Notice of Filing Materials Under Seal; Filing Acceptance Date: December 18, 2024; Filing Authority: 39 U.S.C. 3642, 39 CFR 3035.105, and 39 CFR 3041.310; Public Representative: Elsie Lee-Robbins; Comments Due: December 27, 2024.

9. Docket No(s).: MC2025-915 and K2025-916; Filing Title: USPS Request to Add Priority Mail Express, Priority Mail & USPS Ground Advantage Contract 1132 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

10. Docket No(s).: MC2025-919 and K2025-920; Filing Title: USPS Request to Add Priority Mail Express, Priority Mail & USPS Ground Advantage Contract 1136 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

11. Docket No(s).: MC2025-920 and K2025-921; Filing Title: USPS Request to Add Priority Mail Express, Priority Mail & USPS Ground Advantage Contract 1137 to the Competitive Product List and Notice of Filing Materials Under Seal; Filing Acceptance Date: December 18, 2024; Filing Authority: 39 U.S.C. 3642, 39 CFR 3035.105, and 39 CFR 3041.310; Public Representative: Elsie Lee-Robbins; Comments Due: December 27, 2024.

12. Docket No(s).: MC2025-921 and K2025-922; Filing Title: USPS Request to Add Priority Mail Express, Priority Mail & USPS Ground Advantage Contract 1138 to the Competitive Product List and Notice of Filing Materials Under Seal; Filing Acceptance Date: December 18, 2024; Filing Authority: 39 U.S.C. 3642, 39 CFR 3035.105, and 39 CFR 3041.310; Public Representative: Jana Slovinska; Comments Due: December 27, 2024.

13. Docket No(s).: MC2025-922 and K2025-923; Filing Title: USPS Request to Add Priority Mail Express, Priority Mail & USPS Ground Advantage Contract 1139 to the Competitive Product List and Notice of Filing Materials Under Seal; Filing Acceptance Date: December 18, 2024; Filing Authority: 39 U.S.C. 3642, 39 CFR 3035.105, and 39 CFR 3041.310; Public Representative: Elsie Lee-Robbins; Comments Due: December 27, 2024.

14. Docket No(s).: MC2025-923 and K2025-924; Filing Title: USPS Request to Add Priority Mail Express, Priority Mail & USPS Ground Advantage Contract 1140 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

15. Docket No(s).: MC2025-924 and K2025-925; Filing Title: USPS Request to Add Priority Mail Express, Priority Mail & USPS Ground Advantage Contract 1141 to the Competitive Product List and Notice of Filing Materials Under Seal; Filing Acceptance Date: December 18, 2024; Filing Authority: 39 U.S.C. 3642, 39 CFR 3035.105, and 39 CFR 3041.310; Public Representative: Jana Slovinska; Comments Due: December 27, 2024.

16. Docket No(s).: MC2025-925 and K2025-926; Filing Title: USPS Request to Add Priority Mail & USPS Ground Advantage Contract 558 to the Competitive Product List and Notice of Filing Materials Under Seal; Filing Acceptance Date: December 18, 2024; Filing Authority: 39 U.S.C. 3642, 39 CFR 3035.105, and 39 CFR 3041.310; Public Representative: Katalin Clendenin; Comments Due: December 27, 2024.

17. Docket No(s).: MC2025-926 and K2025-927; Filing Title: USPS Request to Add Priority Mail Express, Priority Mail & USPS Ground Advantage Contract 1142 to the Competitive Product List and Notice of Filing Materials Under Seal; Filing Acceptance Date: December 18, 2024; Filing Authority: 39 U.S.C. 3642, 39 CFR 3035.105, and 39 CFR 3041.310; Public Representative: Elsie Lee-Robbins; Comments Due: December 27, 2024.

18. Docket No(s).: MC2025-927 and K2025-928; Filing Title: USPS Request to Add Priority Mail Express, Priority Mail & USPS Ground Advantage Contract 1143 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

19. Docket No(s).: MC2025-928 and K2025-929; Filing Title: USPS Request to Add Priority Mail & USPS Ground Advantage Contract 559 to the Competitive Product List and Notice of Filing Materials Under Seal; Filing Acceptance Date: December 18, 2024; Filing Authority: 39 U.S.C. 3642, 39 CFR 3035.105, and 39 CFR 3041.310; Public Representative: Kenneth Moeller; Comments Due: December 27, 2024.

III. Summary Proceeding(s)

None. See Section II for public proceedings.

This Notice will be published in the Federal Register.

Erica A. Barker,
Secretary.

[FR Doc. 2024-30749 Filed 12-23-24; 8:45 am]

BILLING CODE 7710-FW-P